DEPARTMENT OF TRANSPORTATION

Federal Aviation Administration

14 CFR Part 39

[Docket No. FAA-2011-1225; Directorate Identifier 2010-NM-269-AD; Amendment 39-17019; AD 2012-08-03]

RIN 2120-AA64

Airworthiness Directives; Airbus Airplanes

AGENCY: Federal Aviation Administration (FAA), Department of Transportation (DOT).

ACTION: Final rule.

SUMMARY: We are adopting a new airworthiness directive (AD) for certain Airbus Model A300 B4-2C, B4-103, and B4-203 airplanes; Model A300 B4-600, B4-600R, and F4-600R series airplanes, and Model C4-605R Variant F airplanes (collectively called A300-600 series airplanes); and Model A310 series airplanes. This AD was prompted by reports of cracking in the forward lug wing of the aft bearing at rib 5 of the main landing gear (MLG). This AD requires installing new bushes with increased interference fit in the forward lug wing of the aft bearing at rib 5 of the MLG on the right-hand (RH) and left-hand (LH) wing. We are issuing this AD to prevent cracking of the forward lug wing of the aft bearing at rib 5 of the MLG, which could adversely affect the structural integrity of the MLG attachment, and could result in the collapse of the MLG.

DATES: This AD becomes effective May 29, 2012.

The Director of the Federal Register approved the incorporation by reference of certain publications listed in this AD as of May 29, 2012.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Dan Rodina, Aerospace Engineer, International Branch, ANM-116, Transport Airplane Directorate, FAA, 1601 Lind Avenue SW., Renton, Washington 98057-3356; telephone (425) 227-2125; fax (425) 227-1149.

SUPPLEMENTARY INFORMATION:

Discussion

We issued a notice of proposed rulemaking (NPRM) to amend 14 CFR part 39 to include an AD that would apply to the specified products. That NPRM was published in the Federal Register on November 8, 2011 (76 FR 69168). That NPRM proposed to correct an unsafe condition for the specified products. The MCAI states:

During a routine visual inspection on two A310 in-service aeroplanes, cracks were found in the wing MLG rib 5 aft bearing forward lug. Laboratory examination of the cracked ribs confirmed that the cracks were the result of pitting corrosion in the forward lug hole. Also on both aeroplanes, medium to heavy corrosion was found in the forward lugs on the opposite wing after removal of the bushes. Similarly to A310 aeroplanes, although there have been no reports of crack findings on any A300, A300-600 or A300-600ST aeroplanes, the differences in MLG rib 5 design compared to A310 aeroplanes does not allow the exclusion of the possibility of cracks. This situation, if not corrected, could affect the structural integrity of the MLG attachment [which could result in the collapse of the MLG].

In order to ensure the detection of any crack at an early stage in the forward lug of the RH and LH MLG rib 5 aft bearing forward lug, Airbus developed inspection programs which were rendered mandatory, initially by EASA AD 2006-0372-E [which corresponds with FAA AD 2007-03-18, Amendment 39-14929 (72 FR 5919, February 8, 2007)] and now by [EASA] AD 2010-0250 applicable to A300B4/C4/F4 and A300-600 aeroplanes and [EASA] AD 2007-0195 [which corresponds with FAA AD 2008-17-02, Amendment 39-15640 (73 FR 47032, August 13, 2008)] applicable to A310 aeroplanes.

More recently, it has been determined that the installation of new bushes with increased interference fit adequately corrects the unsafe condition and ensures the structural integrity of the MLG attachment. Installation of these bushes constitutes terminating action for the repetitive inspection requirements of the existing EASA AD 2010-0250 for A300B4/C4/F4 and A300-600 aeroplanes, and [EASA] AD 2007-0195 for A310 aeroplanes.

For the reasons described above, this new [EASA] AD requires installation of bushes with increased interference fit in the gear rib 5 aft bearing forward lug.

You may obtain further information by examining the MCAI in the AD docket.

Comments

We gave the public the opportunity to participate in developing this AD. We considered the comment received. FedEx commented on the NPRM (76 FR 69168, November 8, 2011), and noted the compliance thresholds fit within their scheduled maintenance checks.

Paragraph Reference Clarification

We revised paragraphs (h) and (i) of this AD to refer to paragraph (g) of this AD for the installation. We had inadvertently referred to paragraph (h) of the NPRM (76 FR 69168, November 8, 2011) for the installation.

Revised Service Information

Since we issued the NPRM (76 FR 69168, November 8, 2011), we have reviewed the following new service information:

• Airbus Mandatory Service Bulletin A300-57-0249, Revision 03, dated January 18, 2012 (for Model A300 B4-2C, B4-103, and B4-203 airplanes).

• Airbus Mandatory Service Bulletin A300-57-6106, Revision 03, dated January 26, 2012 (for Model A300-600 series airplanes).

• Airbus Mandatory Service Bulletin A310-57-2090, Revision 03, dated January 23, 2012 (for Airbus Model A310 series airplanes).

We have revised paragraph (g) of this AD to refer to the revised service information, revised paragraph (j) of this AD to give credit for earlier revisions of the service bulletin, and re-identified subsequent paragraphs accordingly.

Conclusion

We reviewed the available data, including the comment received, and determined that air safety and the public interest require adopting the AD with the changes described previously and minor editorial changes. We have determined that these minor changes:

• Are consistent with the intent that was proposed in the NPRM (76 FR 69168, November 8, 2011) for correcting the unsafe condition; and

• Do not add any additional burden upon the public than was already proposed in the NPRM (76 FR 69168, November 8, 2011).

Costs of Compliance

We estimate that this AD will affect 215 products of U.S. registry. We also estimate that it will take about 38 work-hours per product to comply with the basic requirements of this AD. The average labor rate is $85 per work-hour. Required parts will cost about $4,590 per product. Where the service information lists required parts costs that are covered under warranty, we have assumed that there will be no charge for these parts. As we do not control warranty coverage for affected parties, some parties may incur costs higher than estimated here. Based on these figures, we estimate the cost of this AD to the U.S. operators to be $1,681,300, or $7,820 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (76 FR 69168, November 8, 2011), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2012-08-03 Airbus: Amendment 39-17019. Docket No. FAA-2011-1225; Directorate Identifier 2010-NM-269-AD.

(a) Effective Date

This airworthiness directive (AD) becomes effective May 29, 2012.

(b) Affected ADs

This AD affects AD 2007-03-18, Amendment 39-14929 (72 FR 5919, February 8, 2007); and AD 2008-17-02, Amendment 39-15640 (73 FR 47032, August 13, 2008).

(c) Applicability

This AD applies to airplanes, certified in any category, as specified in paragraphs (c)(1), (c)(2), and (c)(3) of this AD.

(1) Airbus Model A300 B4-2C, B4-103, and B4-203 airplanes; all serial numbers; except airplanes where the main landing gear (MLG) rib 5 forward lugs of the left-hand (LH) and right-hand (RH) wings have been repaired by installation of oversized interference fit bushes specified in Airbus Repair Instruction R57240221, or those where the LH and RH wings have had Airbus Mandatory Service Bulletin A300-57-0249 embodied in service.

(2) Airbus Model A300 B4-601, B4-603, B4-620, and B4-622 airplanes; Airbus Model A300 B4-605R and B4-622R airplanes; Airbus Model A300 F4-605R and F4-622R airplanes; and Airbus Model A300 C4-605R Variant F airplanes; all serial numbers; except airplanes where the MLG rib 5 forward lugs of the LH and RH wing have been repaired by installation of oversized interference fit bushes specified in Airbus Repair Instruction R57240221, or those where the LH and RH wing have had Airbus Service Bulletin A300-57-6106 embodied in service.

(3) Airbus Model A310-203, -204, -221, -222, -304, -322, -324, and -325 airplanes; all serial numbers; except airplanes where the MLG rib 5 forward lugs of the LH and RH wing have been repaired by installation of oversized interference fit bushes specified in Airbus Repair Instruction R57249121, or those where the LH and RH wing have had Airbus Mandatory Service Bulletin A310-57-2090 embodied in service.

(d) Subject

Air Transport Association (ATA) of America Code 57: Wings.

(e) Reason

This AD was prompted by reports of cracking in the forward lug wing of the aft bearing at rib 5 of the main landing gear (MLG). We are issuing this AD to prevent cracking of the forward lug wing of the aft bearing at rib 5 of the MLG, which could adversely affect the structural integrity of the MLG attachment, and could result in the collapse of the MLG.

(f) Compliance

You are responsible for having the actions required by this AD performed within the compliance times specified, unless the actions have already been done.

(g) Installation

Within 30 months after the effective date of this AD, install new bushes with increased interference fit in the gear rib 5 aft bearing forward lug on the RH and LH wing, in accordance with the Accomplishment Instructions of the applicable service bulletin specified in paragraph (g)(1), (g)(2), or (g)(3) of this AD; except as specified in paragraph (h) of this AD.

(1) Airbus Mandatory Service Bulletin A300-57-0249, Revision 03, dated January 18, 2012 (for Model A300 B4-2C, B4-103, and B4-203 airplanes).

(2) Airbus Mandatory Service Bulletin A300-57-6106, Revision 03, dated January 26, 2012 (for Model A300-600 series airplanes).

(3) Airbus Mandatory Service Bulletin A310-57-2090, Revision 03, dated January 23, 2012 (for Model A310 series airplanes).

(h) Exception

If one wing had rib 5 forward lugs of the MLG repaired by installing oversized interference fit bushes as specified in Airbus Repair Instruction R57240221 or Airbus Repair Instruction R57249121, as applicable to the airplane model, then installing new bushes with increased interference fit in the aft bearing forward lug of the gear rib, as specified in paragraph (g) of this AD, is required for the opposite wing only.

(i) Terminating Action for Certain Inspections

Installation of new bushes, as specified in paragraph (g) of this AD, is terminating action for the repetitive inspections required by AD 2007-03-18, Amendment 39-14929 (72 FR 5919, February 8, 2007); and AD 2008-17-02, Amendment 39-15640 (73 FR 47032, dated August 13, 2008).

(j) Credit for Previous Actions

This paragraph provides credit for actions required by paragraph (g) of this AD, if those actions were performed before the effective date of this AD using an applicable service bulletin specified in paragraph (j)(1), (j)(2), or (j)(3) of this AD.

(1) Airbus Service Bulletin A300-57-0249, dated May 22, 2007; Airbus Service Bulletin A300-57-0249, Revision 01, dated December 19, 2007; or Airbus Mandatory Service Bulletin A300-57-0249, Revision 02, dated June 18, 2010 (for Model A300 B4-2C, B4-103, and B4-203 airplanes).

(2) Airbus Service Bulletin A300-57-6106, May 22, 2007; Airbus Service Bulletin A300-57-6106, Revision 01, January 28, 2008; or Airbus Service Bulletin A300-57-6106, Revision 02, dated June 18, 2010 (for Model A300-600 series airplanes).

(3) Airbus Service Bulletin A310-57-2090, dated May 22, 2007; Airbus Service Bulletin A310-57-2090, Revision 01, dated December 19, 2007; or Airbus Service Bulletin A310-57-2090, Revision 02, dated June 18, 2010 (for Model A310 series airplanes).

(k) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, Washington 98057-3356; telephone (425) 227-2125; fax (425) 227-1149. Information may be emailed to: 9-ANM-16-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(l) Related Information

Refer to MCAI European Aviation Safety Agency Airworthiness Directive 2010-0251, dated November 29, 2010, and the service information specified in paragraphs (l)(1) through (l)(3) this AD, for related information.

(1) Airbus Mandatory Service Bulletin A300-57-0249, Revision 03, dated January 18, 2012.

(2) Airbus Mandatory Service Bulletin A300-57-6106, Revision 03, dated January 26, 2012.

(3) Airbus Mandatory Service Bulletin A310-57-2090, Revision 03, dated January 23, 2012.

(m) Material Incorporated by Reference

(1) You must use the following service information to do the actions required by this AD, unless the AD specifies otherwise. The Director of the Federal Register approved the incorporation by reference (IBR) of the following service information under 5 U.S.C. 552(a) and 1 CFR part 51:

(i) Airbus Mandatory Service Bulletin A300-57-0249, Revision 03, dated January 18, 2012.

(ii) Airbus Mandatory Service Bulletin A300-57-6106, Revision 03, dated January 26, 2012.

(iii) Airbus Mandatory Service Bulletin A310-57-2090, Revision 03, dated January 23, 2012.

(2) For Airbus service information identified in this AD, contact Airbus SAS—EAW (Airworthiness Office), 1 Rond Point Maurice Bellonte, 31707 Blagnac Cedex, France; telephone +33 5 61 93 36 96; fax +33 5 61 93 44 51; email account.airworth-eas@airbus.com; Internet http://www.airbus.com.

(3) You may review copies of the service information at the FAA, Transport Airplane Directorate, 1601 Lind Avenue SW., Renton, Washington. For information on the availability of this material at the FAA, call 425-227-1221.

(4) You may also review copies of the service information that is incorporated by reference at the National Archives and Records Administration (NARA). For information on the availability of this material at an NARA facility, call 202-741-6030, or go to http://www.archives.gov/federal_register/code_of_federal_regulations/ibr_locations.html.

Issued in Renton, Washington, on April 5, 2012.
Ali Bahrami,
Manager, Transport Airplane Directorate, Aircraft Certification Service.

[FR Doc. 2012-9185 Filed 4-23-12; 8:45 am]

BILLING CODE 4910-13-P